DEPARTMENT OF THE INTERIOR

Bureau of Land Management

[A2407-014-004-065516, #O2509-014-004-125222; LLNV952000]

Filing of Plats of Survey; Nevada

AGENCY: Bureau of Land Management, Interior.

ACTION: Notice of official filing.

SUMMARY: The purpose of this notice is to inform the public and interested State and local government officials of the filing of Plats of Survey in Nevada.

DATES: Filing is applicable at 10:00 a.m. on the dates indicated below.

FOR FURTHER INFORMATION CONTACT: Clarence D. Strickland, Chief Cadastral Surveyor for Nevada, Bureau of Land Management, Nevada State Office, 1340 Financial Boulevard, Reno, NV 89502-7147, phone: 775-861-6490. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

1. The Plat of Survey of the following described lands was officially filed at the Bureau of Land Management (BLM) Nevada State Office, Reno, Nevada, on January 07, 2025.

The plat, in 1 sheet, representing the dependent resurvey of a portion of the subdivisional lines, and the subdivision of section 6, Township 16 North, Range 28 East, Mount Diablo Meridian, Nevada, under Group No. 1012, was accepted December 19, 2024. This survey was executed to meet certain administrative needs of the BLM and the Department of the Navy.

2. The Plat of Survey of the following described lands was officially filed at the BLM Nevada State Office, Reno, Nevada, on May 16, 2025.

The plat, in 1 sheet, representing the dependent resurvey of a portion of the subdivisional lines, and the subdivision of section 22, Township 17 North, Range 28 East, Mount Diablo Meridian, Nevada, under Group No. 1013, was accepted May 12, 2025. This survey was executed to meet certain administrative needs of the BLM and the Department of the Navy.

3. The Plat of Survey of the following described lands was officially filed at the BLM Nevada State Office, Reno, Nevada, on May 22, 2025.

The plat, in 1 sheet, representing the dependent resurvey of the First Standard Parallel North, through portions of Ranges 41 and 42 East, and a portion of the subdivisional lines, and the subdivision of section 2, Township 5 North, Range 41 East, Mount Diablo Meridian, Nevada, under Group No. 889, was accepted May 12, 2025. This survey was executed to meet certain administrative needs of the Bureau of Land Management.

4. The Plat of Survey of the following described lands was officially filed at the BLM Nevada State Office, Reno, Nevada, on May 22, 2025.

The Supplemental Plat, in 1 sheet, showing new and amended lottings as a result of that portion of the cancellation of Mineral Survey No. 3721B, Clifton Mill Site, lying in section 24, Township 19 North, Range 43 East, Mount Diablo Meridian, Nevada, under Group No. 1024, was accepted May 22, 2025. This survey was executed to meet certain administrative needs of the BLM.

5. The Plat of Survey of the following described lands was officially filed at the BLM Nevada State Office, Reno, Nevada, on May 22, 2025.

The Supplemental Plat, in 1 sheet, showing new lottings as a result of that portion of the cancellation of Mineral Survey No. 3721B, Clifton Mill Site, lying in section 19, Township 19 North, Range 44 East, Mount Diablo Meridian, Nevada, under Group No. 1025, was accepted May 22, 2025. This survey was executed to meet certain administrative needs of the BLM.

6. The Plat of Survey of the following described lands was officially filed at the BLM Nevada State Office, Reno, Nevada, on May 30, 2025.

The plat, in 1 sheet, representing the dependent resurvey of a portion of the south boundary and portions of the subdivisional lines, and the subdivision of sections 28 and 33, Township 18 North, Range 28 East, Mount Diablo Meridian, Nevada, under Group No. 1014, was accepted May 28, 2025. This survey was executed to meet certain administrative needs of the BLM and the Department of the Navy.

7. The Plat of Survey of the following described lands was officially filed at the BLM Nevada State Office, Reno, Nevada, on June 27, 2025.

The plat, in 1 sheet, representing the dependent resurvey of a portion of the subdivisional lines, Township 26 South, Range 60 East, Mount Diablo Meridian, Nevada, under Group No. 954, was accepted June 24, 2025. This survey was executed to meet certain administrative needs of the BLM.

8. The Plat of Survey of the following described lands was officially filed at the BLM Nevada State Office, Reno, Nevada, on June 27, 2025.

The Supplemental Plat, in 1 sheet, showing new lottings in Sections 22 and 27, Township 25 South, Range 59 East, Mount Diablo Meridian, Nevada, under Group No. 1021, was accepted June 24, 2025. This survey was executed to meet certain administrative needs of the BLM.

9. The Plat of Survey of the following described lands was officially filed at the BLM Nevada State Office, Reno, Nevada, on September 23, 2025.

The plat, in 1 sheet, representing the dependent resurvey of the Fifth Standard Parallel South, through a portion of Range 63 East and a portion of the east boundary, Township 20 South, Range 62 East, and the survey of a portion of the subdivisional lines, and the subdivision of section 31, Township 20 South, Range 63, Mount Diablo Meridian, Nevada, under Group No. 1011, was accepted September 22, 2025. This survey was executed to meet certain administrative needs of the BLM.

10. The Plat of Survey of the following described lands was officially filed at the BLM Nevada State Office, Reno, Nevada, on September 24, 2025.

The Supplemental Plat, in 1 sheet, showing amended lottings in section 36, Township 20 South, Range 62 East, Mount Diablo Meridian, Nevada, under Group No. 1028, was accepted September 23, 2025. This survey was executed to meet certain administrative needs of the BLM.

11. The Plat of Survey of the following described lands was officially filed at the BLM Nevada State Office, Reno, Nevada, on September 24, 2025.

The Supplemental Plat, in 1 sheet, showing amended lottings in section 1, Township 21 South, Range 62 East, Mount Diablo Meridian, Nevada, under Group No. 1029, was accepted September 23, 2025. This survey was executed to meet certain administrative needs of the BLM.

12. The Plat of Survey of the following described lands was officially filed at the BLM Nevada State Office, Reno, Nevada, on September 24, 2025.

The Supplemental Plat, in 1 sheet, showing new lottings in section 13, Township 21 South, Range 62 East, Mount Diablo Meridian, Nevada, under Group No. 1029, was accepted September 23, 2025. This survey was executed to meet certain administrative needs of the BLM.

13. The Plat of Survey of the following described lands was officially filed at the BLM Nevada State Office, Reno, Nevada, on September 24, 2025.

The Supplemental Plat, in 1 sheet, showing new and amended lottings in section 6, Township 21 South, Range 63 East, Mount Diablo Meridian, Nevada, under Group No. 1030, was accepted September 23, 2025. This survey was executed to meet certain administrative needs of the BLM.

14. The Plat of Survey of the following described lands was officially filed at the BLM Nevada State Office, Reno, Nevada, on November 13, 2025.

The plat, in 1 sheet, representing the dependent resurvey of the Nevada-Arizona State Line between Mile Post Nos. 333 and 335, and a portion of the subdivisional lines, and the subdivision of sections 22 and 27, Township 16 South, Range 71 East, Mount Diablo Meridian, Nevada, under Group No.1016, was accepted September 29, 2025. This survey was executed to meet certain administrative needs of the BLM.

15. The Plat of Survey of the following described lands was officially filed at the BLM Nevada State Office, Reno, Nevada, on November 13, 2025.

The plat, in 1 sheet, representing the retracement of the Nevada-Utah State Line between the witness corner of Mile Post No. 41 and Mile Post No. 44; the dependent resurvey of portions of the subdivisional lines and a portion of Mineral Survey No. 4699, metes-and-bounds surveys of a portion of Parcel A in sections 22 and 27 and a portion of Parcel B in sections 15 and 22; and metes-and-bounds survey in sections 15, 22, and 27, Township 33 North, Range 70 East, Mount Diablo Meridian, Nevada, under Group No. 1017, was accepted September 29, 2025. This survey was executed to meet certain administrative needs of the BLM.

The surveys and supplemental plats, listed above, are now the basic record for describing the lands for all authorized purposes. These records have been placed in the official files in the BLM Nevada State Office and are available to the public as a matter of information.

(Authority: 43 U.S.C. Chapter 3)

Clarence D. Strickland,
Chief Cadastral Surveyor for Nevada.

[FR Doc. 2026-03408 Filed 2-19-26; 8:45 am]

BILLING CODE 4331-21-P